DEPARTMENT OF TRANSPORTATION

Surface Transportation Board

[Docket No. AB 6; Sub-No. 476]

BNSF Railway Company—Discontinuance—in Iron and Crawford Counties, MO

On April 29, 2011, BNSF Railway Company (BNSF) filed with the Board an application for permission to discontinue service on a line of railroad known as the Lead Line extending from railroad milepost 87.60, at Cuba, to the end of the line at railroad milepost 133.42, near Buick, a distance of 45.84 ¹ miles in Iron and Crawford Counties, MO. There are no stations on the line. The Line traverses United States Postal Service Zip Codes 65440, 65453, 65456, 65560, 65565, and 65566.

¹ The line is 45.84 miles in length, not 45.82, because of an equation in mileposts between milepost 100.72 and 100.74. Line segment 1009, which begins at Cuba, extends to milepost 100.74, and line segment 1010, which extends to the south end of the line, begins at milepost 100.72. The line also has approximately 6.1 miles of sidings.

The line does contain federally granted rights-of-way. Any documentation in the railroad's possession will be made available promptly to those requesting it. The applicant's entire case for discontinuance (case-in-chief) was filed with the application.

This line of railroad has appeared on BNSF's system diagram map or has been included in the narrative in category 1 since February 24, 2010.

The interests of railroad employees will be protected by the conditions set forth in Oregon Short Line Railroad—Abandonment Portion Goshen Branch Between Firth & Amon, in Bingham & Bonneville Counties, Idaho, 360 I.C.C. 91 (1979).

Any interested person may file with the Surface Transportation Board written comments concerning the proposed discontinuance or protests (including the protestant's entire opposition case), by June 13, 2011. Because this is a discontinuance proceeding and not an abandonment, trail use/rail banking and public use conditions are not appropriate. Also, only offers of financial assistance (OFAs) under 49 U.S.C. 10904 to subsidize (not purchase) the line will be entertained. Applicant's reply to any opposition statements must be filed by June 28, 2011. See 49 CFR 1152.26(a).

Persons opposing the discontinuance who wish to participate actively and fully in the process should file a protest. Persons who oppose the discontinuance but who do not wish to participate fully in the process by submitting verified statements of witnesses containing detailed evidence should file comments. Persons seeking information concerning the filing of protests should refer to 49 CFR 1152.25.

In addition, a commenting party or protestant may provide: (i) An OFA to subsidize rail service under 49 U.S.C. 10904 (due 120 days after the application is filed or 10 days after the application is granted by the Board, whichever occurs sooner); and (ii) recommended provisions for protection of the interests of employees.

The line sought to be discontinued will be available for subsidy for continued rail use, if the Board decides to permit the discontinuance, in accordance with applicable laws and regulations (49 U.S.C. 10904 and 49 CFR 1152.27). Each OFA must be accompanied by a $1,500 filing fee. 49 CFR 1002.2(f)(25). No subsidy arrangement approved under 49 U.S.C. 10904 shall remain in effect for more than 1 year unless otherwise mutually agreed by the parties. 49 U.S.C. 10904(f)(4)(B). Applicant will promptly provide upon request to each interested party an estimate of the subsidy required to keep the line in operation. The applicant's representative to whom inquiries may be made concerning subsidy terms is set forth below.

Written comments and protests must indicate the proceeding designation Docket No. AB 6 (Sub-No. 476) and should be filed with the Chief, Section of Administration, Office of Proceedings, Surface Transportation Board, 395 E Street, SW., Washington, DC 20423. The original and 10 copies of all comments or protests shall be filed with the Board with a certificate of service. A copy of each written comment or protest shall be served upon the representative of the applicant: Karl Morell, 1455 F Street, NW., Suite 225, Washington, DC 20005. Except as otherwise set forth in 49 CFR pt. 1152, every document filed with the Board must be served on all parties to the discontinuance proceeding. 49 CFR 1104.12(a).

Persons seeking further information concerning discontinuance procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305. [Assistance for the hearing impaired is available through the Federal Information Relay Service (FIRS) at 1- 800-877-8339.]

OEA has determined that this action is exempt from environmental reporting requirements under 49 CFR 1105.6(c) and from historic reporting requirements under 49 CFR 1105.8. Consequently, OEA concludes that this action does not require the preparation of an environmental assessment.

Board decisions and notices are available on our Web site at “http://www.stb.dot.gov.”

Decided: May 13, 2011.
By the Board, Rachel D. Campbell, Director, Office of Proceedings.
Andrea Pope-Matheson,
Clearance Clerk.

[FR Doc. 2011-12322 Filed 5-18-11; 8:45 am]

BILLING CODE 4915-01-P